DEPARTMENT OF ENERGY

Federal Energy Regulatory Commission

[Docket No. EL00-95-127, et al.]

San Diego Gas & Electric Company, et al.; Electric Rate and Corporate Filings

June 24, 2005.

The following filings have been made with the Commission. The filings are listed in ascending order within each docket classification.

1. San Diego Gas & Electric Company, Complainant v. Sellers of Energy and Ancillary Services Into Markets Operated by the California Independent System Operator and the California Power Exchange, Respondents; Investigation of Practices of the California Independent System Operator and the California Power Exchange

[Docket Nos. EL00-95-127, EL00-98-114]

Take notice that on June 21, 2005, The City of Los Angeles Department of Water and Power (LADWP) submitted an amendment to its March 21, 2005 emissions cost compliance filing to correct certain inadvertent errors in calculations.

Comment Date: 5 p.m. on July 12, 2005.

2. Lockhart Power Company

[Docket No. EL05-129-000]

Take notice that on June 21, 2005, Lockhart Power Company (Lockhart) filed a motion requesting full waiver or exemption from the filing requirements of Order No. 2003-B and Order No. 2006.

Comment Date: 5 p.m. on July 12, 2005.

3. Sempra Energy

[Docket No. EL05-130-000]

Take notice that on June 22, 2005, Sempra Energy, Southern California Gas Company and San Diego Gas & Electric Company, tendered for filing an expedited petition requesting that the Commission issue a declaratory order confirming that preemption principles and the filed rate doctrine bar a California state court jury from deciding the proper level of wholesale electric and gas rates during the California energy crisis in a class action lawsuit now pending before the San Diego Superior Court in Natural Gas Anti-Trust Cases I, II, III & IV, J.C.C.P. Nos. 4221, 4224, 4226 & 4228.

Comment Date: 5 p.m. on July 13, 2005.

4. Direct Energy Services, LLC

[Docket No. ER05-876-001]

Take notice that on June 22, 2005, Direct Energy Services, LLC (Direct Energy) submitted an amendment to its April 25, 2005 filing in Docket No. ER05-876-000 requesting market-based rate authorization.

Comment Date: 5 p.m. on July 5, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3454 Filed 6-30-05; 8:45 am]

BILLING CODE 6717-01-P